DEPARTMENT OF THE TREASURY

Office of Foreign Assets Control

31 CFR Part 515

Cuban Assets Control Regulations

AGENCY: Office of Foreign Assets Control, Treasury.

ACTION: Final rule.

SUMMARY: The Department of the Treasury's Office of Foreign Assets Control (OFAC) is amending the Cuban Assets Control Regulations to implement policy changes announced by the President on December 17, 2014 to further engage and empower the Cuban people. These amendments facilitate travel to Cuba for authorized purposes, facilitate the provision by travel agents and airlines of authorized travel services and the forwarding by certain entities of authorized remittances, raise the limit on certain categories of remittances to Cuba, allow U.S. financial institutions to open correspondent accounts at Cuban financial institutions to facilitate the processing of authorized transactions, authorize certain transactions with Cuban nationals located outside of Cuba, and allow a number of other activities related to, among other areas, telecommunications, financial services, trade, and shipping. These amendments also implement certain technical and conforming changes.

DATES: Effective: January 16, 2015.

FOR FURTHER INFORMATION CONTACT: Assistant Director for Licensing, tel.: 202/622-2480, Assistant Director for Policy, tel.: 202/622-6746, Assistant Director for Regulatory Affairs, tel: 202/622-4855, Assistant Director for Sanctions Compliance & Evaluation, tel.: 202/622-2490, Office of Foreign Assets Control, or Chief Counsel (Foreign Assets Control), tel.: 202/622-2410, Office of the General Counsel, Department of the Treasury (not toll free numbers).

SUPPLEMENTARY INFORMATION:

Electronic and Facsimile Availability

This document and additional information concerning OFAC are available from OFAC's Web site (www.treasury.gov/ofac). Certain general information pertaining to OFAC's sanctions programs also is available via facsimile through a 24-hour fax-on-demand service, tel.: 202/622-0077.

Background

The Department of the Treasury issued the Cuban Assets Control Regulations, 31 CFR part 515 (the “Regulations”), on July 8, 1963, under the Trading With the Enemy Act (50 U.S.C. App. 5 et seq.). OFAC has amended the Regulations on numerous occasions. Notably, on September 3, 2009, OFAC amended the Regulations to implement measures announced by the President on April 13, 2009 to promote democracy and human rights in Cuba by easing travel restrictions to facilitate greater contact between separated family members in the United States and Cuba and by increasing the flow of remittances and information to the Cuban people. On January 28, 2011, OFAC further amended the Regulations to implement certain policy changes announced by the President on January 14, 2011 designed to increase people-to-people contact, support civil society in Cuba, enhance the free flow of information to, from, and among the Cuban people, and help promote their independence from Cuban authorities. These amendments allowed for greater licensing of travel to Cuba for educational, cultural, religious, and journalistic activities and expanded licensing of remittances to Cuba. These amendments also modified regulations regarding authorization of transactions with Cuban nationals who have taken up permanent residence outside of Cuba and implemented certain technical and conforming changes.

OFAC is now amending the Regulations to implement certain policy changes announced by the President on December 17, 2014 to further engage and empower the Cuban people. These amendments facilitate travel to Cuba for authorized purposes, facilitate the provision by travel agents and airlines of authorized travel services and the forwarding by certain entities of authorized remittances, raise the limit on remittances to Cuba, allow U.S. financial institutions to open correspondent accounts at Cuban financial institutions to facilitate the processing of authorized transactions, authorize certain transactions with Cuban nationals outside of Cuba, and allow a number of other activities related to, among other areas, telecommunications, financial services, trade, and shipping. These amendments also implement certain technical and conforming changes.

Travel to Cuba for authorized purposes. OFAC is amending sections 515.533, 515.545, 515.560 through 515.567, and 515.574 through 515.576 to authorize travel-related transactions and other transactions incident to activities within the 12 existing travel categories in OFAC's regulations—such as for educational activities (including people-to-people travel), journalistic and religious activities, professional meetings, and humanitarian projects—without the need for case-by-case specific licensing, while continuing not to authorize travel for tourist activities, which is prohibited by statute. The authorizations contain certain restrictions appropriate to each category of activities.

Travel services. OFAC is amending section 515.572 to permit persons subject to U.S. jurisdiction, including travel agents and airlines, to provide authorized travel and carrier services, and certain entities to forward authorized remittances, under conditions set forth below, without the need for specific licenses from OFAC.

Remittances. OFAC is amending section 515.570 to raise from $500 to $2,000 per quarter the limits on remittances that may be sent to Cuban nationals, and to generally authorize, as is done now, as appropriate, on a case-by-case basis, without limitation, remittances for humanitarian projects, support for the Cuban people, and development of private business in Cuba. Section 515.560(c) is amended to raise to $10,000 the total amount of remittances that a traveler may carry to Cuba.

Credit and debit cards, per diem, and importation of certain goods and services. OFAC is amending section 515.560 and adding a new section 515.584 to authorize the use of U.S. credit and debit cards in Cuba for travel-related and other transactions consistent with section 515.560 and to allow U.S. financial institutions to enroll merchants and to process such transactions. OFAC also is amending section 515.560 to eliminate the per diem limitation on authorized travelers' spending in Cuba, and to permit authorized travelers to import no more than $400 worth of goods from Cuba (including up to $100 in alcohol or tobacco products).

Certain micro-financing, business, and commercial import activities. OFAC is amending section 515.575 to authorize certain micro-financing activities and entrepreneurial and business training, such as for private businesses and agricultural operations. OFAC is adding new section 515.582 to authorize commercial imports of certain specified goods and services produced by independent Cuban entrepreneurs.

Certain financial transactions. OFAC is adding a general license in new section 515.584 to authorize depository institutions to open correspondent accounts at Cuban financial institutions to facilitate the processing of authorized transactions and to permit U.S. financial institutions to reject and process certain funds transfer transactions.

Regulatory interpretation of “cash in advance.” OFAC is amending section 515.533 to revise the regulatory interpretation of “cash in advance” from “cash before shipment” to “cash before transfer of title and control” to allow expanded financing options for authorized exports to Cuba.

Telecommunications. In order to better provide efficient and adequate telecommunications services between the United States and Cuba, OFAC is amending section 515.542 to generally authorize transactions that establish mechanisms to provide commercial telecommunications services linking third countries and Cuba and in Cuba. OFAC is amending section 515.578 to authorize persons subject to U.S. jurisdiction to provide additional services incident to internet-based communications and related to certain exportations and reexportations of communications items.

Certain transactions with Cuban nationals located outside of Cuba. OFAC is adding new section 515.585 to authorize U.S.-owned or -controlled entities in third countries to provide, with some limitations, goods and services to Cuban nationals in third countries. OFAC is amending section 515.505 to unblock accounts of Cuban nationals who have permanently relocated outside of Cuba. OFAC is amending section 515.579 to authorize funds transfers through the United States for the personal expenditures of employees, grantees, and contractors, and persons who share a common dwelling as a family member of such employees, grantees, and contractors, of third-country official missions in Cuba or any intergovernmental organization in which the United States is a member or holds observer status in Cuba. OFAC is adding new section 515.581 to authorize persons subject to U.S. jurisdiction to sponsor and participate in third-country professional meetings and conferences that are attended by Cuban nationals, and new section 515.583 to permit the provision of certain goods and services to Cuban national sailors sequestered aboard ships in U.S. ports.

Official government business. OFAC is amending section 515.562 to expand an existing authorization to cover all Cuba-related transactions by employees, grantees, and contractors of the U.S. Government, foreign governments, and certain international organizations in their official capacities.

Cuban official missions. To facilitate the reestablishment of diplomatic relations with Cuba, OFAC is adding new section 515.586 to authorize transactions with Cuban official missions and their employees in the United States.

Other transactions. OFAC is adding new section 515.580 to authorize insurance companies to offer global insurance policies that cover third-country nationals traveling to Cuba. OFAC is amending section 515.550 to authorize foreign vessels to enter the United States after engaging in certain trade with Cuba.

Public Participation

Because the amendments of the Regulations involve a foreign affairs function, Executive Order 12866 and the provisions of the Administrative Procedure Act (5 U.S.C. 553) requiring notice of proposed rulemaking, opportunity for public participation, and delay in effective date are inapplicable. Because no notice of proposed rulemaking is required for this rule, the Regulatory Flexibility Act (5 U.S.C. 601-612) does not apply.

Paperwork Reduction Act

The collections of information related to the Regulations are contained in 31 CFR part 501 (the “Reporting, Procedures and Penalties Regulations”). Pursuant to the Paperwork Reduction Act of 1995 (44 U.S.C. 3507), those collections of information have been approved by the Office of Management and Budget under control number 1505-0164. An agency may not conduct or sponsor, and a person is not required to respond to, a collection of information unless the collection of information displays a valid control number.

List of Subjects in 31 CFR Part 515

Administrative practice and procedure, Banking, Blocking of assets, Cuba, Remittances, Reporting and recordkeeping requirements, Travel restrictions.

For the reasons set forth in the preamble, the Department of the Treasury's Office of Foreign Assets Control amends 31 CFR part 515 as set forth below:

PART 515—CUBAN ASSETS CONTROL REGULATIONS

1. The authority citation for part 515 continues to read as follows:

Authority: 18 U.S.C. 2332d; 22 U.S.C. 2370(a), 6001-6010, 7201-7211; 31 U.S.C. 321(b); 50 U.S.C. App 1-44; Pub. L. 101-410, 104 Stat. 890 (28 U.S.C. 2461 note); Pub. L. 104-114, 110 Stat. 785 (22 U.S.C. 6021-6091); Pub. L. 105-277, 112 Stat. 2681; Pub. L. 111-8, 123 Stat. 524; Pub. L. 111-117, 123 Stat. 3034; E.O. 9193, 7 FR 5205, 3 CFR, 1938-1943 Comp., p. 1174; E.O. 9989, 13 FR 4891, 3 CFR, 1943-1948 Comp., p. 748; Proc. 3447, 27 FR 1085, 3 CFR, 1959-1963 Comp., p. 157; E.O. 12854, 58 FR 36587, 3 CFR, 1993 Comp., p. 614.

Subpart B—Prohibitions

§ 515.207 [Amended]

2. In § 515.207, revise the Note to the section to read as follows:

* * * * *

Note to § 515.207: For the waiver of the prohibitions contained in this section for vessels engaged in certain trade with Cuba, see § 515.550.

Subpart C—General Definitions

3. Revise § 515.307 to read as follows:

§ 515.307 Unblocked national.

Any person licensed pursuant to § 515.505 as an unblocked national shall, while so licensed, be regarded as a person who is not a national of any designated foreign country.

4. In § 515.329, revise the section heading and introductory text to read as follows:

§ 515.329 Person subject to the jurisdiction of the United States; person subject to U.S. jurisdiction.

The terms person subject to the jurisdiction of the United States and person subject to U.S. jurisdiction include:

* * * * *

Subpart E—Licenses, Authorizations, and Statements of Licensing Policy

5. Revise § 515.505 to read as follows:

§ 515.505 Certain Cuban nationals unblocked.

(a) General license unblocking certain persons. The following persons are licensed as unblocked nationals, as that term is defined in § 515.307 of this part:

(1) Any individual national of Cuba who:

(i) Has taken up residence in the United States; and

(ii) Is a United States citizen; is a lawful permanent resident alien of the United States; has applied to become a lawful permanent resident alien of the United States and has an adjustment of status application pending; or is lawfully present and intending to lawfully remain in the United States on a permanent basis; and

(iii) Is not a prohibited official of the Government of Cuba, as defined in § 515.337 of this part, or a prohibited member of the Cuban Communist Party, as defined in § 515.338 of this part.

(2) Any individual national of Cuba who has taken up permanent residence outside of Cuba, provided that the required documentation specified in paragraph (c) of this section is obtained and the individual is not a prohibited official of the Government of Cuba, as defined in § 515.337 of this part, or a prohibited member of the Cuban Communist Party, as defined in § 515.338 of this part; and

(3) Any entity that otherwise would be a national of Cuba solely because of the interest therein of one or more persons licensed in this paragraph (a) as an unblocked national.

Note to § 515.505(a): An individual unblocked pursuant to this paragraph does not become blocked again merely by leaving the United States or the country in which he or she has taken up permanent residence. An individual unblocked national remains unblocked unless and until the individual thereafter becomes domiciled in or a permanent resident of Cuba.

(b) General license unblocking blocked accounts. Banking institutions, as defined in § 515.314, including U.S. registered brokers or dealers in securities and U.S. registered money transmitters, are authorized to unblock any blocked account, as defined in § 515.319, that had been previously blocked solely because of the interest therein of one or more persons licensed in paragraph (a) of this section as unblocked nationals.

(c) Required documentation. In determining whether an individual national of Cuba qualifies as an unblocked national under paragraph (a)(2) of this section, persons subject to U.S. jurisdiction must obtain evidence demonstrating that the individual satisfies the requirements of that paragraph. Such evidence may include copies of documents issued by government authorities demonstrating citizenship or lawful permanent residence in a third country. These could include, depending on the information provided in the document in question, a passport, voter registration card, permanent resident alien card, national identity card, or other similar documents. Where such documents are unavailable, persons subject to U.S. jurisdiction may also rely on evidence that the individual has been resident for the past two years without interruption in a single country outside of Cuba, or a sworn statement or other evidence that the individual does not intend to, or would not be welcome to, return to Cuba.

(d) For the purposes of paragraph (a)(1) of this section, the term “lawfully present and intending to lawfully remain in the United States on a permanent basis” includes an individual with a pending application for asylum or who has been paroled into the United States under Cuban Parole or Cuban Medical designations. It does not include anyone present in the United States in a non-immigrant status.

Note to § 515.505: See § 515.571 for the authorization of certain limited transactions incident to travel to, from, and within the United States by Cuban nationals who are present in the United States in a non-immigrant status or pursuant to other non-immigrant travel authorization issued by the U.S. government.

6. Amend § 515.533 by revising the the section heading and paragraph (a)(2), redesignating the Note to paragraph (b) as the Note to § 515.533(b) and revising it, revising paragraphs (d) and (e), and removing paragraphs (f) and (g) to read as follows:

§ 515.533 Exportations from the United States to Cuba; reexportations of 100% U.S.-origin items to Cuba; negotiation of executory contracts.

(a) * * *

(2) Only the following payment and financing terms may be used:

(i) Payment of cash in advance. For the purposes of this section, the term “payment of cash in advance” shall mean payment before the transfer of title to, and control of, the exported items to the Cuban purchaser; or

(ii) Financing by a banking institution located in a third country provided the banking institution is not a designated national, a U.S. citizen, a U.S. permanent resident alien, or an entity organized under the laws of the United States or any jurisdiction within the United States (including any foreign branch of such an entity). Such financing may be confirmed or advised by a U.S. banking institution.

* * * * *

Note to § 515.533(b): This paragraph does not authorize transactions related to travel to, from, or within Cuba. See paragraph (d) for a general license addressing such transactions, and paragraph (e) with respect to specific licenses.

* * * * *

(d) General license for travel-related transactions incident to sales of certain items. The travel-related transactions set forth in § 515.560(c) and such additional transactions as are directly incident to the conduct of market research, commercial marketing, sales negotiation, accompanied delivery, or servicing in Cuba of items consistent with the export or reexport licensing policy of the Department of Commerce are authorized, provided that the traveler's schedule of activities does not include free time or recreation in excess of that consistent with a full-time schedule.

(e) Specific licenses. Specific licenses may be issued on a case-by-case basis authorizing the travel-related transactions set forth in § 515.560(c) and such other transactions as are related to the exportation and reexportation of items to Cuba when such transactions do not qualify for the general license under paragraph (d) of this section.

7. Revise § 515.542 to read as follows:

§ 515.542 Mail and telecommunications-related transactions.

(a) All transactions, including payments, incident to the receipt or transmission of mail between the United States and Cuba by persons subject to U.S. jurisdiction are authorized.

(b) All transactions, including payments, incident to the provision of telecommunications services related to the transmission or the receipt of telecommunications involving Cuba, including the entry into and performance under roaming service agreements with telecommunications services providers in Cuba, by persons subject to U.S. jurisdiction are authorized. This paragraph does not authorize any transactions addressed in paragraphs (c) or (d) of this section, nor does it authorize the entry into or performance of a contract with or for the benefit of any particular individual in Cuba.

(c) All persons subject to U.S. jurisdiction are authorized to enter into, and make payments under, contracts with telecommunications service providers, or particular individuals in Cuba, for telecommunications services provided to particular individuals in Cuba, provided that such individuals in Cuba are not prohibited officials of the Government of Cuba, as defined in § 515.337 of this part, or prohibited members of the Cuban Communist Party, as defined in § 515.338 of this part. The authorization in this paragraph includes payment for activation, installation, usage (monthly, pre-paid, intermittent, or other), roaming, maintenance, and termination fees.

(d) General license for telecommunications facilities. Transactions, including payments, incident to the establishment of facilities, including fiber-optic cable and satellite facilities, to provide telecommunications services linking the United States or third countries and Cuba, including facilities to provide telecommunications services in Cuba, are authorized.

(e) Any entity subject to U.S. jurisdiction relying on paragraph (b), (c), or (d) of this section shall notify OFAC in writing within 30 days after commencing or ceasing to offer such services, as applicable, and shall furnish by January 15 and July 15 of each year semiannual reports providing the total amount of all payments made to Cuba or a third country related to any of the services authorized by this section during the prior six months. These notifications and reports must be captioned “Section 515.542 Notification” or “Section 515.542 Report” and faxed to 202/622-6931 or mailed to the Office of Foreign Assets Control, Attn: Regulatory Affairs Division, 1500 Pennsylvania Avenue NW., Annex, Washington, DC 20220.

(f) For purposes of this section, the term “telecommunications services” includes data, telephone, telegraph, internet connectivity, radio, television, news wire feeds, and similar services, regardless of the medium of transmission, including transmissions by satellite.

(g) Nothing in this section authorizes the exportation or reexportation of any items to Cuba. For the rules related to authorization of exports and reexports to Cuba, see §§ 515.533 and 515.559.

(h) Nothing in this section authorizes transactions related to travel to, from, or within Cuba.

Note 1 to § 515.542: For an authorization of travel-related transactions that are directly incident to the conduct of market research, commercial marketing, sales negotiation, accompanied delivery, or servicing in Cuba of items consistent with the export or reexport policy of the Department of Commerce, see § 515.533(d). For an authorization of travel-related transactions that are directly incident to participation in professional meetings, including where such meetings are for the market research for, commercial marketing of, sales negotiation for, accompanied delivery of, servicing of, or performance under contracts for the provision of telecommunications services, or the establishment of facilities to provide telecommunications services, authorized by paragraphs (b), (c), or (d) of this section, see § 515.564(a).

Note 2 to § 515.542: For an authorization of certain internet-related services, see § 515.578.

8. Amend § 515.545 by revising paragraph (b) and adding new paragraph (c) to read as follows:

§ 515.545 Transactions related to information and informational materials.

* * * * *

(b) General license. The travel-related transactions set forth in § 515.560(c) and such additional transactions as are directly incident to the exportation, importation, or transmission of information or informational materials as defined in § 515.332 are authorized, provided that the traveler's schedule of activities does not include free time or recreation in excess of that consistent with a full-time schedule.

(c) Specific licenses. Specific licenses may be issued on a case-by-case basis authorizing the travel-related transactions set forth in § 515.560(c) and such other transactions as are related to information and informational materials that do not qualify for the general license under paragraph (b) of this section.

* * * * *

9. Revise § 515.548 to read as follows:

§ 515.548 Services rendered by Cuba to United States aircraft.

The receipt of services from Cuba and payment to Cuba of charges for services rendered by Cuba in connection with overflights of Cuba or emergency landings in Cuba by aircraft registered in the United States or owned or controlled by, or chartered to, persons subject to U.S. jurisdiction are authorized.

10. Revise § 515.549 to read as follows:

§ 515.549 Bank accounts and other property of non-Cuban decedents in Cuba on or after July 8, 1963.

Specific licenses may be issued authorizing the administration of the estates of non-Cuban decedents who died in Cuba on or after July 8, 1963, provided that any distribution to a blocked national of Cuba is made by deposit in a blocked account in a domestic bank in the name of the blocked national.

11. Revise § 515.550 to read as follows:

§ 515.550 Certain vessel transactions authorized.

Unless a vessel is otherwise engaging or has otherwise engaged in transactions that would prohibit entry pursuant to § 515.207, § 515.207 shall not apply to a vessel that is:

(a) Engaging or has engaged in trade with Cuba authorized pursuant to § 515.533 or § 515.559;

(b) Engaging or has engaged in trade with Cuba that is exempt from the prohibitions of this part (see § 515.206);

(c) Engaging or has engaged in the exportation or re-exportation to Cuba from a third country of agricultural commodities, medicine, or medical devices that would be designated as EAR99 under the Export Administration Regulations (15 CFR part 730 et seq.), if they were located in the United States; or

(d) A foreign vessel that has entered a port or place in Cuba while carrying students, faculty, and staff that are authorized to travel to Cuba pursuant to § 515.565(a).

Note to § 515.550(d): This general license does not authorize vessels to transport persons between the United States and Cuba. See § 515.572(c).

12. Amend § 515.559 by revising the section heading, removing and reserving paragraph (b)(2), adding new paragraphs (d) and (e), redesignating the Note to § 515.559 as Note 1 to § 515.559, and by revising it, and by adding new Note 2 to § 515.559 to read as follows:

§ 515.559 Certain export and import transactions by U.S.-owned or -controlled foreign firms.

* * * * *

(b) * * *

(2) [Reserved]

* * * * *

(d) General license. Travel-related transactions set forth in § 515.560(c) and such other transactions as are directly incident to market research, commercial marketing, sales negotiation, accompanied delivery, or servicing of exports that are consistent with the licensing policy under paragraph (a) of this section are authorized, provided that the traveler's schedule of activities does not include free time or recreation in excess of that consistent with a full-time schedule.

(e) Specific licenses. Specific licenses may be issued on a case-by-case basis authorizing the travel-related transactions set forth in § 515.560(c) and such other transactions as are related to certain transactions by U.S.-owned or -controlled foreign firms with Cuba that do not qualify for the general license under paragraph (d) of this section.

Note 1 to § 515.559: For authorization of the reexportation of U.S.-origin items, see § 515.533. Transactions by U.S.-owned or -controlled foreign firms directly incident to the exportation of information or informational materials or the donation of food to nongovernmental entities or individuals in Cuba are exempt from the prohibitions of this part. See § 515.206. For the waiver of the prohibitions contained in § 515.207 with respect to vessels transporting shipments of items pursuant to this section, see § 515.550.

Note 2 to § 515.559: See § 515.585 for provisions related to certain transactions by U.S.-owned or -controlled firms in third countries with certain Cuban nationals.

13. Amend § 515.560 by revising paragraph (a), (c)(2), (c)(3), (c)(4)(i), (c)(5), (d) introductory text, removing and reserving paragraph (e), and adding Notes 1, 2, and 3 to § 515.560 to read as follows:

§ 515.560 Travel-related transactions to, from, and within Cuba by persons subject to U.S. jurisdiction.

(a) The travel-related transactions listed in paragraph (c) of this section may be authorized either by a general license or on a case-by-case basis by a specific license for travel related to the following activities (see the referenced sections for the applicable general and specific licensing criteria):

(1) Family visits (see § 515.561);

(2) Official business of the U.S. government, foreign governments, and certain intergovernmental organizations (see § 515.562);

(3) Journalistic activity (see § 515.563);

(4) Professional research and professional meetings (see § 515.564);

(5) Educational activities (see § 515.565);

(6) Religious activities (see § 515.566);

(7) Public performances, clinics, workshops, athletic and other competitions, and exhibitions (see § 515.567);

(8) Support for the Cuban people (see § 515.574);

(9) Humanitarian projects (see § 515.575);

(10) Activities of private foundations or research or educational institutes (see § 515.576);

(11) Exportation, importation, or transmission of information or informational materials (see § 515.545); and

(12) Certain export transactions that may be considered for authorization under existing Department of Commerce regulations and guidelines with respect to Cuba or engaged in by U.S.-owned or -controlled foreign firms (see §§ 515.533 and 515.559).

* * * * *

(c) * * *

(2) Living expenses in Cuba. All transactions ordinarily incident to travel within Cuba, including payment of living expenses and the acquisition in Cuba of goods for personal consumption there, are authorized.

(3) Importation of Cuban merchandise. The purchase or other acquisition in Cuba and importation as accompanied baggage into the United States of merchandise with a value not to exceed $400 per person are authorized, provided that no more than $100 of the merchandise consists of alcohol or tobacco products and the merchandise is imported for personal use only. The importation of Cuban-origin information and informational materials is exempt from the prohibitions of this part, as described in § 515.206. The importation of certain other specified goods and services is authorized in § 515.582.

(4) * * *

(i) The total of all remittances authorized by § 515.570(a) through (d) does not exceed $10,000; and

* * * * *

(5) Processing certain financial instruments. All transactions incident to the processing and payment of credit cards, debit cards, stored value cards, checks, drafts, travelers' checks, and similar instruments used or negotiated in Cuba by any person authorized pursuant to this part to engage in financial transactions in Cuba are authorized. Persons subject to U.S. jurisdiction may rely on the traveler with regard to compliance with this paragraph, provided that such persons do not know or have reason to know that a transaction is not authorized by this section.

Note to § 515.560(c)(5): Please see § 515.584 for additional provisions related to the processing and payment of credit and debit card transactions.

(d) A blocked Cuban national permanently resident in Cuba who is departing the United States may carry currency as follows:

* * * * *

(e) [Reserved]

* * * * *

Note 1 to § 515.560: Each person relying on the general authorization in this section must retain specific records related to the authorized travel transactions. See §§ 501.601 and 501.602 of this chapter for applicable recordkeeping and reporting requirements.

Note 2 to § 515.560: This section authorizes the provision of health insurance-, life insurance-, and travel insurance-related services to authorized travelers, as well as the receipt of emergency medical services and the making of payments related thereto.

Note 3 to § 515.560: The export or reexport to Cuba of items subject to the Export Administration Regulations (15 CFR et seq.) may require separate authorization from the Department of Commerce.

14. Revise § 515.561 to read as follows:

§ 515.561 Family visits.

(a) General license. Persons subject to the jurisdiction of the United States and persons traveling with them who share a common dwelling as a family with them are authorized to engage in the travel-related transactions set forth in § 515.560(c) and such additional transactions as are directly incident to visiting a close relative, as defined in § 515.339, who is a national of Cuba; a person ordinarily resident in Cuba; a person located in Cuba pursuant to the authorizations in § 515.565(a)(1) through (4) (educational activities), provided that the authorized traveler will be in Cuba for more than 60 days; or a person located in Cuba pursuant to the authorization in § 515.562 (official government business).

Note to § 515.561(a): Each person relying on the general authorization in this paragraph must retain specific records related to the authorized travel transactions. See §§ 501.601 and 501.602 of this chapter for applicable recordkeeping and reporting requirements.

(b) Specific licenses. Specific licenses may be issued on a case-by-case basis authorizing the travel-related transactions set forth in § 515.560(c) and such other transactions as are related to family visits that do not qualify for the general license under paragraph (a) of this section.

(c) An entire group does not qualify for the general license in paragraph (a) of this section merely because some members of the group qualify individually.

15. Revise § 515.562 to read as follows:

§ 515.562 Official business of the U.S. government, foreign governments, and certain intergovernmental organizations.

(a) The travel-related transactions set forth in § 515.560(c) and such additional transactions as are directly incident to activities in their official capacities by persons who are employees, contractors, or grantees of the United States Government, any foreign government, or any intergovernmental organization of which the United States is a member or holds observer status, and who are traveling on the official business of their government or intergovernmental organization, are authorized.

(b) All transactions otherwise prohibited by this part that are for the conduct of the official business of the United States Government or of any intergovernmental organization of which the United States is a member, or holds observer status, by employees, grantees, or contractors thereof, are authorized.

Note to § 515.562(a) and (b): Each person relying on the general authorization in this paragraph must retain specific records related to the authorized travel transactions. For example, grantees or contractors relying on the authorization in this section must retain a copy of their grant or contract with the United States Government, foreign government, or intergovernmental organization. See §§ 501.601 and 501.602 of this chapter for applicable recordkeeping and reporting requirements.

(c) An entire group does not qualify for the general license in paragraph (a) of this section merely because some members of the group qualify individually.

(d) Specific licenses. Specific licenses may be issued on a case-by-case basis authorizing the travel-related transactions set forth in § 515.560(c) and such other transactions as are related to official government business that do not qualify for the general licenses under paragraph (a) or (b) of this section.

16. Revise § 515.563 to read as follows:

§ 515.563 Journalistic activities in Cuba.

(a) General license. The travel-related transactions set forth in § 515.560(c) and such additional transactions as are directly incident to journalistic activities in Cuba are authorized, provided that:

(1) The traveler is at least one of the following:

(i) Regularly employed as a journalist by a news reporting organization;

(ii) Regularly employed as supporting broadcast or technical personnel;

(iii) A freelance journalist with a record of previous journalistic experience working on a freelance journalistic project; or

(iv) Broadcast or technical personnel with a record of previous broadcast or technical experience, who are supporting a freelance journalist working on a freelance journalistic project; and

(2) The traveler's schedule of activities does not include free time or recreation in excess of that consistent with a full-time schedule.

Note to § 515.563(a): Each person relying on the general authorization in this paragraph must retain specific records related to the authorized travel transactions. See §§ 501.601 and 501.602 of this chapter for applicable recordkeeping and reporting requirements.

(b) An entire group does not qualify for the general license in paragraph (a) of this section merely because some members of the group qualify individually.

(c) Specific licenses. Specific licenses may be issued on a case-by-case basis authorizing the travel-related transactions set forth in § 515.560(c) and such other transactions as are related to journalistic activity in Cuba that do not qualify for the general license under paragraph (a) of this section.

17. Revise § 515.564 to read as follows:

§ 515.564 Professional research and professional meetings in Cuba.

(a) General license

(1) Professional research. The travel-related transactions set forth in § 515.560(c) and such additional transactions as are directly incident to professional research are authorized, provided that:

(i) The purpose of the research directly relates to the traveler's profession, professional background, or area of expertise, including area of graduate-level full-time study;

(ii) The traveler does not engage in recreational travel, tourist travel, travel in pursuit of a hobby, or research for personal satisfaction only; and

(iii) The traveler's schedule of activities does not include free time or recreation in excess of that consistent with a full-time schedule of professional research.

Example to § 515.564(a)(1): The making of a documentary film in Cuba would qualify for the general license in this section if it is a vehicle for presentation of the research conducted pursuant to this section.

Note to § 515.564(a)(1): A person does not qualify as engaging in professional research merely because that person is a professional who plans to travel to Cuba.

(2) Professional meetings. The travel-related transactions set forth in § 515.560(c) and such additional transactions as are directly incident to travel to Cuba to attend professional meetings or conferences in Cuba are authorized, provided that:

(i) The purpose of the meeting or conference is not the promotion of tourism in Cuba;

(ii) The purpose of the meeting directly relates to the traveler's profession, professional background, or area of expertise, including area of graduate-level full-time study;

(iii) The traveler does not engage in recreational travel, tourist travel, or travel in pursuit of a hobby; and

(iv) The traveler's schedule of activities does not include free time or recreation in excess of that consistent with a full-time schedule of attendance at professional meetings or conferences.

Note to § 515.564(a): Each person relying on the general authorization in this paragraph must retain specific records related to the authorized travel transactions. See §§ 501.601 and 501.602 of this chapter for applicable recordkeeping and reporting requirements.

(b) An entire group does not qualify for the general license in paragraph (a) of this section of this section merely because some members of the group qualify individually.

Example to § 515.564(b): A musicologist travels to Cuba to research Cuban music pursuant to the general license for professional research set forth in paragraph (a) of this section. Others who are simply interested in music may not engage in travel-related transactions with the musicologist in reliance on this general license. For example, an art historian who plays in the same band with the musicologist would not qualify for the general license.

(c) Specific licenses. Specific licenses may be issued on a case-by-case basis authorizing the travel-related transactions set forth in § 515.560(c) and such other transactions as are related to professional research or professional meetings in Cuba that do not qualify for the general license under paragraph (a) of this section.

18. Revise § 515.565 to read as follows:

§ 515.565 Educational activities.

(a) General license for educational activities. Persons subject to U.S. jurisdiction, including U.S. academic institutions and their faculty, staff, and students, are authorized to engage in the travel-related transactions set forth in § 515.560(c) and such additional transactions as are directly incident to:

(1) Participation in a structured educational program in Cuba as part of a course offered for credit by a U.S. graduate or undergraduate degree-granting academic institution that is sponsoring the program;

(2) Noncommercial academic research in Cuba specifically related to Cuba and for the purpose of obtaining an undergraduate or graduate degree;

(3) Participation in a formal course of study at a Cuban academic institution, provided the formal course of study in Cuba will be accepted for credit toward the student's graduate or undergraduate degree;

(4) Teaching at a Cuban academic institution related to an academic program at the Cuban institution, provided that the individual is regularly employed by a U.S. or other non-Cuban academic institution;

(5) Sponsorship, including the payment of a stipend or salary, of a Cuban scholar to teach or engage in other scholarly activity at the sponsoring U.S. academic institution (in addition to those transactions authorized by the general license contained in § 515.571). Such earnings may be remitted to Cuba as provided in § 515.570 or carried on the person of the Cuban scholar returning to Cuba as provided in § 515.560(d)(3);

Note to § 515.565(a)(5): See § 515.571(a) for authorizations related to certain banking transactions by Cuban nationals.

(6) Educational exchanges sponsored by Cuban or U.S. secondary schools involving secondary school students' participation in a formal course of study or in a structured educational program offered by a secondary school or other academic institution and led by a teacher or other secondary school official. This includes participation by a reasonable number of adult chaperones to accompany the secondary school students to Cuba.

(7) Sponsorship or co-sponsorship of noncommercial academic seminars, conferences, and workshops related to Cuba or global issues involving Cuba and attendance at such events by faculty, staff, and students of a participating U.S. academic institution;

(8) The organization of, and preparation for, activities described in paragraphs (a)(1) through (a)(7) of this section by members of the faculty and staff of the sponsoring U.S. academic institution or secondary school; or

(9) Facilitation by an organization that is a person subject to U.S. jurisdiction, or a member of the staff of such an organization, of licensed educational activities in Cuba on behalf of U.S. academic institutions or secondary schools, provided that:

(i) The organization is directly affiliated with one or more U.S. academic institutions or secondary schools;

(ii) The organization facilitates educational activities that meet the requirements of one or more of the general licenses set forth in § 515.565(a)(1), (a)(2), (a)(3), and (a)(6); and

(iii) The educational activities the organization facilitates in Cuba must, by prior agreement, be accepted for credit by the affiliated U.S. academic institution or approved by the affiliated secondary school.

Note 1 to § 515.565(a): U.S. academic institutions or secondary schools engaging in activities authorized pursuant to this section are permitted to open and maintain accounts at Cuban financial institutions for the purpose of accessing funds in Cuba for transactions authorized pursuant to this section.

Note 2 to § 515.565(a): This paragraph authorizes all members of the faculty and staff (including adjunct faculty and part-time staff) of the sponsoring U.S. academic institution to participate in the activities described in this paragraph. A student currently enrolled in a U.S. academic institution is authorized pursuant to this paragraph to participate in the academic activities in Cuba described above through any sponsoring U.S. academic institution.

(b) General license for people-to-people travel. The travel-related transactions set forth in § 515.560(c) and such additional transactions as are directly incident to educational exchanges not involving academic study pursuant to a degree program are authorized, provided that:

(1) The exchanges take place under the auspices of an organization that is a person subject to U.S. jurisdiction and that sponsors such exchanges to promote people-to-people contact;

(2) Travel-related transactions pursuant to this authorization must be for the purpose of engaging, while in Cuba, in a full-time schedule of activities intended to enhance contact with the Cuban people, support civil society in Cuba, or promote the Cuban people's independence from Cuban authorities;

(3) Each traveler has a full-time schedule of educational exchange activities that will result in meaningful interaction between the traveler and individuals in Cuba;

(4) An employee, paid consultant, or agent of the sponsoring organization accompanies each group traveling to Cuba to ensure that each traveler has a full-time schedule of educational exchange activities; and

(5) The predominant portion of the activities engaged in by individual travelers is not with individuals or entities acting for or on behalf of a prohibited official of the Government of Cuba, as defined in 31 CFR 515.337 of this part, or a prohibited member of the Cuban Communist Party, as defined in 31 CFR 515.338 of this part.

Example to § 515.565(b): An organization wishes to sponsor and organize educational exchanges not involving academic study pursuant to a degree program for individuals to learn side-by-side with Cuban individuals in areas such as environmental protection or the arts. The travelers will have a full-time schedule of educational exchange activities that will result in meaningful interaction between the travelers and individuals in Cuba. The organization's activities qualify for the general license.

Note to § 515.565(b): An organization that sponsors and organizes trips to Cuba in which travelers engage in individually selected and/or self-directed activities would not qualify for the general license. Authorized trips are expected to be led by the organization and to have a full-time schedule of activities in which the travelers will participate.

Note to § 515.565(a) and (b): Each person relying on the general authorizations in these paragraphs, including entities sponsoring travel pursuant to the authorization in § 515.565(b), must retain specific records related to the authorized travel transactions. See §§ 501.601 and 501.602 of this chapter for applicable recordkeeping and reporting requirements.

(c) Transactions related to activities that are primarily tourist-oriented, including self-directed educational activities that are intended only for personal enrichment, are not authorized pursuant to this section.

(d) Specific licenses. Specific licenses may be issued on a case-by-case basis authorizing the travel-related transactions set forth in § 515.560(c) and such other transactions as are related to educational activities that do not qualify for the general licenses under paragraph (a) or (b) of this section.

19. Revise § 515.566 to read as follows:

§ 515.566 Religious activities in Cuba.

(a) General license. Persons subject to U.S. jurisdiction, including religious organizations located in the United States and members and staff of such organizations, are authorized to engage in the travel-related transactions set forth in § 515.560(c) and such additional transactions as are directly incident to engaging in religious activities in Cuba, provided that the travel-related transactions pursuant to this authorization must be for the purpose of engaging, while in Cuba, in a full-time schedule of religious activities.

Note to § 515.566(a): Each person relying on the general authorization in this paragraph must retain specific records related to the authorized travel transactions. See §§ 501.601 and 501.602 of this chapter for applicable recordkeeping and reporting requirements.

(b) Financial and material donations to Cuba or Cuban nationals are not authorized by this section.

Note to § 515.566(b): See § 515.570 regarding authorized remittances to religious organizations in Cuba and for other purposes. See § 515.533 regarding the exportation of items from the United States to Cuba.

(c) Specific licenses. Specific licenses may be issued on a case-by-case basis authorizing the travel-related transactions set forth in § 515.560(c) and such other transactions as are related to religious activities that do not qualify for the general license under paragraph (a) of this section.

Note to § 515.566: Religious organizations engaging in activities authorized pursuant to this section are permitted to open and maintain accounts at Cuban financial institutions for the purpose of accessing funds in Cuba for transactions authorized pursuant to this section.

20. Revise § 515.567 to read as follows:

§ 515.567 Public performances, clinics, workshops, athletic and other competitions, and exhibitions.

(a) General license for amateur and semi-professional international sports federation competitions. The travel-related transactions set forth in § 515.560(c) and such other transactions as are directly incident to athletic competition by amateur or semi-professional athletes or athletic teams traveling to participate in athletic competition in Cuba are authorized, provided that:

(1) The athletic competition in Cuba is held under the auspices of the international sports federation for the relevant sport;

(2) The U.S. participants in the athletic competition are selected by the U.S. federation for the relevant sport; and

(3) The competition is open for attendance, and in relevant situations, participation, by the Cuban public.

(b) General license for public performances, clinics, workshops, other athletic or non-athletic competitions, and exhibitions. The travel-related transactions set forth in § 515.560(c) and such other transactions as are directly incident to participation in a public performance, clinic, workshop, athletic competition not covered by paragraph (a) of this section, non-athletic competition, or exhibition in Cuba by participants in such activities are authorized, provided that:

(1) The event is open for attendance, and in relevant situations participation, by the Cuban public;

(2) All U.S. profits from the event after costs are donated to an independent nongovernmental organization in Cuba or a U.S.-based charity, with the objective, to the extent possible, of promoting people-to-people contacts or otherwise benefiting the Cuban people; and

(3) Any clinics or workshops in Cuba must be organized and run, at least in part, by the authorized traveler.

Example to § 515.567(a) and (b): An amateur baseball team wishes to travel to Cuba to compete against a Cuban team in a baseball game in Cuba. The game will not be held under the auspices of the international sports federation for baseball. The baseball team's activities therefore would not qualify for the general license in paragraph (a). The game will, however, be open to the Cuban public and any profits after costs from the game will be donated to an independent non-governmental organization in Cuba. The baseball team's activities would qualify for the general license in paragraph (b).

Note to § 515.567(a) and (b): Each person relying on the general authorizations in these paragraphs must retain specific records related to the authorized travel transactions. See §§ 501.601 and 501.602 of this chapter for applicable recordkeeping and reporting requirements.

(c) An entire group does not qualify for the general license in paragraph (a) or (b) of this section merely because some members of the group qualify individually.

(d) Specific licenses. Specific licenses may be issued on a case-by-case basis authorizing the travel-related transactions set forth in § 515.560(c) and such other transactions as are related to public performances, clinics, workshops, athletic and other competitions, and exhibitions that do not qualify for the general licenses under paragraphs (a) or (b) of this section.

21. Amend § 515.569 by adding a Note to § 515.569 to read as follows:

§ 515.569 Foreign passengers' baggage.

* * * * *

Note to § 515.569: Pursuant to § 515.560(c)(3), a person other than a citizen or resident of the United States arriving in the United States on a trip that included Cuba is authorized to import as accompanied baggage alcohol or tobacco products purchased or otherwise acquired in Cuba with a value not to exceed $100 for personal use only. See § 515.560(c)(3).

22. Amend § 515.570 by revising paragraphs (b), (d), and (g), adding new paragraph (h), redesignating the Note to § 515.570 as Note 1 to § 515.570 and revising it, and adding new Note 2 to § 515.570 to read as follows:

§ 515.570 Remittances.

* * * * *

(b) Periodic remittances authorized. Persons subject to the jurisdiction of the United States are authorized to make periodic remittances to Cuban nationals, provided that:

(1) The remitter's total remittances pursuant to paragraph (b) of this section to any one Cuban national do not exceed $2,000 in any consecutive three-month period;

(2) The remittances are not made from a blocked source;

(3) The recipient is not a prohibited official of the Government of Cuba, as defined in § 515.337 of this part, or a prohibited member of the Cuban Communist Party, as defined in § 515.338 of this part;

(4) The remittances are not made for emigration-related purposes. Remittances for emigration-related purposes are addressed by paragraph (e) of this section; and

(5) The remitter, if an individual, is 18 years of age or older.

* * * * *

(d) Remittances to students in Cuba pursuant to an educational license authorized. Persons subject to the jurisdiction of the United States who are 18 years of age or older are authorized to make remittances to close relatives, as defined in § 515.339 of this part, who are students in Cuba pursuant to the general license authorizing certain educational activities in § 515.565(a) or a specific license issued pursuant to § 515.565(d), provided that the remittances are not made from a blocked source and are for the purpose of funding transactions authorized by the general licenses in § 515.565(a) or the specific license issued pursuant to § 515.565(d) under which the student is traveling.

* * * * *

(g) Remittances to certain individuals and independent non-governmental organizations in Cuba. Remittances by persons subject to U.S. jurisdiction to individuals and independent non-governmental entities in Cuba, including pro-democracy groups and civil society groups, and to members of such groups or organizations, are authorized for the following purposes, provided that the remittances are not made from a blocked source:

(1) To support humanitarian projects in or related to Cuba that are designed to directly benefit the Cuban people, as set forth in § 515.575(b);

(2) To support the Cuban people through activities of recognized human rights organizations, independent organizations designed to promote a rapid, peaceful transition to democracy, and activities of individuals and non-governmental organizations that promote independent activity intended to strengthen civil society in Cuba; and

(3) To support the development of private businesses, including small farms.

(h) Specific licenses. Specific licenses may be issued on a case-by-case basis authorizing the following:

(1) Remittances by persons subject to U.S. jurisdiction to a person in Cuba, directly or indirectly, for transactions to facilitate non-immigrant travel by an individual in Cuba to the United States under circumstances where humanitarian need is demonstrated, including illness or other medical emergency.

(2) Remittances from a blocked account to a Cuban national in excess of the amount specified in paragraph (f)(2) of this section.

Note 1 to § 515.570: This section does not authorize investment with respect to Cuba.

Note 2 to § 515.570: For the rules relating to the carrying of remittances to Cuba, see § 515.560(c)(4). See § 515.572 for an authorization related to the collection or forwarding of certain remittances to Cuba.

23. Amend § 515.571 by revising the introductory text to paragraph (a), revising paragraph (a)(3) and the introductory text to paragraph (a)(5), adding a new Note to § 515.571(a)(5), adding a new Note to § 515.571(a), revising the introductory text to paragraph (b), and revising the Note to § 515.571 to read as follows:

§ 515.571 Certain transactions incident to travel to, from, and within the United States by Cuban nationals.

(a) Except as provided in paragraph (c) of this section, the following transactions by or on behalf of a Cuban national who is present in the United States in a non-immigrant status or pursuant to other non-immigrant travel authorization issued by the U.S. government are authorized:

* * * * *

(3) All transactions on behalf of aircraft or vessels incident to flights or voyages between the United States and Cuba, provided that the carrier services are authorized pursuant to § 515.572. This paragraph does not authorize the carriage of any merchandise into the United States except accompanied baggage; and

* * * * *

(5) All transactions ordinarily incident to the Cuban national's presence in the United States in a non-immigrant status or other non-immigrant travel authorization issued by the U.S. government.

* * * * *

Note to § 515.571(a)(5): This paragraph authorizes depository institutions to open and maintain accounts for a Cuban national who is present in the United States in a non-immigrant status or pursuant to other non-immigrant travel authorization for the duration of the Cuban national's stay in the United States in such status, and to close such accounts prior to the departure of the Cuban national from the United States. Accounts that are not closed prior to the departure of such a Cuban national from the United States must be blocked and reported as such.

Note to § 515.571(a): This paragraph authorizes the provision or receipt of emergency medical services and making or receipt of payment related thereto.

(b) Payments and transfers of credit in the United States from blocked accounts in domestic banking institutions held in the name of a Cuban national who is present in the United States in a non-immigrant status or pursuant to other non-immigrant travel authorization issued by the U.S. government to or upon the order of such Cuban national are authorized provided that:

* * * * *

Note to § 515.571: For the authorization of certain transactions by Cuban nationals who become U.S. citizens; are lawful permanent resident aliens of the United States; have applied to become a lawful permanent resident alien of the United States and have an adjustment of status application pending; or are lawfully present and intending to lawfully remain in the United States on a permanent basis, see § 515.505 of this part.

24. Revise § 515.572 to read as follows:

§ 515.572 Authorization to provide travel services, carrier services, and remittance forwarding services.

(a) General licenses—(1) Authorization to provide travel services. Persons subject to U.S. jurisdiction are authorized to provide travel services in connection with travel-related transactions involving Cuba authorized pursuant to this part.

(2) Authorization to provide carrier services. Persons subject to U.S. jurisdiction are authorized to provide carrier services by aircraft to, from, or within Cuba in connection with travel or transportation to Cuba of persons, baggage, or cargo authorized pursuant to this part.

Note to § 515.572(a)(2): Carriage to or from Cuba of any item subject to the Export Administration Regulations (15 CFR part 730 et seq.) may also require separate authorization from the Department of Commerce. See § 515.533.

(3) Authorization to provide remittance forwarding services. Banking institutions, as defined in § 515.314, including U.S.-registered brokers or dealers in securities and U.S.-registered money transmitters, are authorized to provide services in connection with the collection or forwarding of remittances authorized pursuant to this part.

Note to § 515.572(a): Section 515.564 authorizes employees, officials, consultants, or agents of persons subject to U.S. jurisdiction providing travel or carrier services or remittance forwarding services authorized pursuant to this part to engage in the travel-related transactions set forth in § 515.560(c) and such additional transactions as are directly incident to travel to Cuba for professional meetings in Cuba, such as those related to safety and security of flights to and from Cuba, or necessary to arrange for travel or carrier services or remittance forwarding to Cuba.

(b) Required reports and recordkeeping. (1) Persons subject to U.S. jurisdiction providing services authorized pursuant to this section must retain for at least five years from the date of the transaction a certification from each customer indicating the section of this part that authorizes the person to travel or send remittances to Cuba. In the case of a customer traveling under a specific license, a copy of the license must be maintained on file with the person subject to U.S. jurisdiction providing services authorized pursuant to this section.

(2) The names and addresses of individual travelers or remitters, the number and amount of each remittance, and the name and address of each recipient, as applicable, must be retained on file with all other information required by § 501.601 of this chapter. These records must be furnished to the Office of Foreign Assets Control on demand pursuant to § 501.602 of this chapter.

(c) Specific licenses. Specific licenses may be issued on a case-by-case basis authorizing the provision of travel-, carrier-, or remittance forwarding-services other than those authorized by paragraph (a) of this section, including the transportation of authorized travelers by vessels.

25. Amend § 515.573 by revising the introductory text to paragraph (a), revising paragraph (c), removing paragraph (d), and adding new Note to § 515.573 to read as follows:

§ 515.573 Transactions by news organizations.

(a) All transactions necessary for the establishment and operation of news bureaus in Cuba whose primary purpose is the gathering and dissemination of news to the general public are authorized, including such other transactions as are incident to the following:

* * * * *

(c) The hiring and employment of Cuban nationals in Cuba to provide reporting services or other services related to the gathering and dissemination of news is authorized.

Note to § 515.573: The export or reexport to Cuba of items subject to the Export Administration Regulations (15 CFR part 730 et seq.) may require separate authorization from the Department of Commerce.

26. Revise § 515.574 to read as follows:

§ 515.574 Support for the Cuban People.

(a) General license. The travel-related transactions set forth in § 515.560(c) and other transactions that are intended to provide support for the Cuban people are authorized, provided that:

(1) The activities are of:

(i) Recognized human rights organizations;

(ii) Independent organizations designed to promote a rapid, peaceful transition to democracy; or

(iii) Individuals and non-governmental organizations that promote independent activity intended to strengthen civil society in Cuba; and

(2) The traveler's schedule of activities does not include free time or recreation in excess of that consistent with a full-time schedule.

Note to § 515.574(a): Each person relying on the general authorization in this paragraph must retain specific records related to the authorized travel transactions. See §§ 501.601 and 501.602 of this chapter for applicable recordkeeping and reporting requirements.

(b) An entire group does not qualify for the general license in paragraph (a) of this section merely because some members of the group qualify individually.

(c) Specific licenses. Specific licenses may be issued on a case-by-case basis authorizing the travel-related transactions set forth in § 515.560(c) and such other transactions as are related to support for the Cuban people that do not qualify for the general license under paragraph (a) of this section.

27. Revise § 515.575 to read as follows:

§ 515.575 Humanitarian projects.

(a) General license. Transactions, including the travel-related transactions set forth in § 515.560(c), that are related to the humanitarian projects in or related to Cuba that are designed to directly benefit the Cuban people as set forth in paragraph (b) are authorized, provided that the traveler's schedule of activities does not include free time or recreation in excess of that consistent with a full-time schedule.

Note to § 515.575(a): Each person relying on the general authorization in this paragraph must retain specific records related to the authorized travel transactions. See §§ 501.601 and 501.602 of this chapter for applicable recordkeeping and reporting requirements.

(b) Authorized humanitarian projects. The following projects are authorized by paragraph (a) of this section: medical and health-related projects; construction projects intended to benefit legitimately independent civil society groups; environmental projects; projects involving formal or non-formal educational training, within Cuba or off-island, on the following topics: entrepreneurship and business, civil education, journalism, advocacy and organizing, adult literacy, or vocational skills; community-based grassroots projects; projects suitable to the development of small-scale private enterprise; projects that are related to agricultural and rural development that promote independent activity; microfinancing projects, except for loans, extensions of credit, or other financing prohibited by § 515.208; and projects to meet basic human needs.

Example to § 515.575(b): A U.S. group of medical professionals that specializes in disease treatment wishes to support a community in Cuba by providing the latest techniques and literature in disease education and prevention directly to the Cuban people. Provided that the medical professionals in the group maintain a full-time schedule related to disease education and prevention, these activities qualify for the general license.

(c) An entire group does not qualify for the general license in paragraph (a) of this section merely because some members of the group qualify individually.

(d) Specific licenses. Specific licenses may be issued on a case-by-case basis authorizing the travel-related transactions set forth in § 515.560(c) and such other transactions as are related to humanitarian projects that do not qualify for the general license under paragraph (a) of this section.

28. Revise § 515.576 to read as follows:

§ 515.576 Activities of private foundations or research or educational institutes.

(a) General license. The travel-related transactions set forth in § 515.560(c) and such additional transactions as are directly incident to activities by private foundations or research or educational institutes with an established interest in international relations to collect information related to Cuba for noncommercial purposes are authorized, provided that the traveler's schedule of activities does not include free time or recreation in excess of that consistent with a full-time schedule.

Example to § 515.576(a): A private research foundation that produces essays on international relations issues wishes to send a team made up of its employees and consultants to Cuba to collect information for a current study of the relationship that countries in the Western Hemisphere have with European countries. Provided that all of the employees and consultants on the team maintain a full-time schedule of activities relating to the collection of information for the study, these activities qualify for the general license.

Note to § 515.576(a): Each person relying on the general authorization in this paragraph must retain specific records related to the authorized travel transactions. See §§ 501.601 and 501.602 of this chapter for applicable recordkeeping and reporting requirements.

(b) An entire group does not qualify for the general license in paragraph (a) of this section merely because some members of the group qualify individually.

(c) Specific licenses. Specific licenses may be issued on a case-by-case basis authorizing the travel-related transactions set forth in § 515.560(c) and such other transactions as are related to activities of private foundations or research or educational institutes that do not qualify for the general license under paragraph (a) of this section.

29. Revise § 515.578 to read as follows:

§ 515.578 Exportation and reexportation of certain internet-based services.

(a) Except as provided in paragraph (b) of this section, the following transactions are authorized:

(1) Certain internet-based services. The exportation or reexportation, directly or indirectly, from the United States or by a person subject to U.S. jurisdiction to Cuba of services incident to the exchange of communications over the internet, such as instant messaging, chat and email, social networking, sharing of photos and movies, web browsing, blogging, web hosting provided that it is not for the promotion of tourism, and domain name registration services.

(2) Services related to certain exportations and reexportations. To the extent not authorized by paragraph (a)(1) of this section or by § 515.533, the exportation or reexportation of services, including software design, business consulting, and information technology management services (including cloud storage), that are related to the following items, or of services to install, repair (including repair training), or replace such items:

(i) Items subject to the EAR. In the case of items subject to the Export Administration Regulations (EAR) (15 CFR part 730 et seq.), items exported or reexported to Cuba pursuant to 15 CFR 740.19 (License Exception Consumer Communication Devices (CCD));

(ii) Items not subject to the EAR because they are of foreign origin and are located outside the United States. In the case of items not subject to the EAR because they are of foreign origin and are located outside the United States that are exported, reexported, or provided, directly or indirectly, by a person subject to U.S. jurisdiction to Cuba pursuant to a specific license issued under § 515.559, items that are of a type described in License Exception CCD provided that the items would be designated EAR99 if they were located in the United States or would meet the criteria for classification under the relevant ECCN specified in License Exception CCD if they were subject to the EAR; and

(iii) Software not subject to the EAR because it is described in 15 CFR 734.3(b)(3). In the case of software not subject to the EAR because it is described in 15 CFR 734.3(b)(3) that is exported, reexported, or provided, directly or indirectly, by a person subject to U.S. jurisdiction to Cuba, software that is of a type described in License Exception CCD.

(3) Importation into the United States of certain items previously exported to Cuba. The importation into the United States of items described in paragraph (2)(i)-(iii) of this section by an individual entering the United States, directly or indirectly, from Cuba.

(4) Exportation, reexportation, or provision of no cost services that are widely available to the public. The exportation or reexportation, directly or indirectly, from the United States or by persons subject to U.S. jurisdiction, to a prohibited official of the Government of Cuba, as defined in § 515.337 of this part, or a prohibited member of the Cuban Communist Party, as defined in § 515.338 of this part, or to organizations administered or controlled by the Government of Cuba or the Cuban Communist Party, of services described in paragraph (a)(1) of this section or services related to items exported or reexported pursuant to License Exception CCD, provided that such services are widely available to the public at no cost to the user.

Note 1 to § 515.578(a): The export or reexport to Cuba of items subject subject to the Export Administration Regulations (15 CFR part 730 et seq.) may require separate authorization from the Department of Commerce.

Note 2 to § 515.578(a): For an authorization of transactions related to the provision of telecommunications services, see § 515.542.

(b) This section does not authorize:

(1) The direct or indirect exportation or reexportation of services with knowledge or reason to know that such services are intended for a prohibited official of the Government of Cuba, as defined in § 515.337 of this part, or a prohibited member of the Cuban Communist Party, as defined in § 515.338 of this part, or to organizations administered or controlled by the Government of Cuba or the Cuban Communist Party, except for the services specified in paragraph (a)(4) of this section.

(2) The direct or indirect exportation of any items to Cuba.

Note to § 515.578(b)(2): For provisions related to transactions ordinarily incident to the exportation or reexportation of items, including software, to Cuba, see §§ 515.533 and 515.559.

(c) Specific licenses. Specific licenses may be issued on a case-by-case basis for the exportation of other internet-based services.

30. Revise § 515.579 to read as follows:

§ 515.579 Funds transfers for third-country official missions and certain intergovernmental organizations.

(a) Depository institutions, as defined in § 515.333, are authorized to process funds transfers for the operating expenses or other official business in Cuba of third-country official missions or any intergovernmental organization in which the United States is a member or holds observer status.

(b) Depository institutions, as defined in § 515.333, are authorized to process funds transfers and maintain accounts for the personal expenditures of the employees, grantees, and contractors, or persons who share a common dwelling as a family member of such employees, grantees, and contractors, of third-country official missions or any intergovernmental organization in which the United States is a member or holds observer status in Cuba.

31. Add § 515.580 to read as follows:

§ 515.580 Global insurance policies covering individuals traveling to Cuba.

Persons subject to U.S. jurisdiction are authorized to issue or provide coverage for global health, life, or travel insurance policies for individuals ordinarily resident in a country outside of Cuba who travel to or within Cuba. Persons subject to U.S. jurisdiction are authorized to service those policies and pay claims arising from events that occurred while the individual was traveling in, or to or from, Cuba.

Note to § 515.580: Certain insurance-related services for persons subject to U.S. jurisdiction traveling to, from, or within Cuba are authorized pursuant to § 515.560. See Note 2 to § 515.560.

32. Add § 515.581 to read as follows:

§ 515.581 Transactions related to conferences in third countries authorized.

Persons subject to U.S. jurisdiction are authorized to sponsor, provide services in connection with, and participate in conferences or other similar events in a third country that are attended by Cuban nationals, provided that the conference or other similar event does not relate to tourism in Cuba.

Note to § 515.581: The export or reexport to Cuba of technology subject to the Export Administration Regulations (15 CFR part 730 et seq.) may require separate authorization from the Department of Commerce.

33. Add § 515.582 to read as follows:

§ 515.582 Importation of certain goods and services produced by independent Cuban entrepreneurs.

Persons subject to U.S. jurisdiction are authorized to engage in all transactions, including payments, necessary to import certain goods and services produced by independent Cuban entrepreneurs as determined by the State Department as set forth on the State Department's Section 515.582 List, located at http://www.state.gov/e/eb/tfs/spi/.

Note 1 to § 515.582: As of the date of publication in the Federal Register of the final rule including this provision, January 16, 2015, the State Department's Section 515.582 List has not yet been published on its Web site. The State Department's Section 515.582 list also will be published in the Federal Register, as will any changes to the list.

Note 2 to § 515.582: Imports authorized by this section are not subject to the limitations set forth in § 515.560(c).

34. Add § 515.583 to read as follows:

§ 515.583 Provision of certain goods and services to Cuban nationals sequestered aboard vessels in U.S. ports.

The provision of goods and services ordinarily incident and necessary to the personal maintenance of Cuban nationals who are prohibited from disembarking from vessels in U.S. ports is authorized.

35. Add § 515.584 to read as follows:

§ 515.584 Certain financial transactions involving Cuba.

(a) Correspondent accounts. Depository institutions, as defined in § 515.333, are authorized to engage in all transactions necessary to establish and maintain correspondent accounts at a financial institution that is a national of Cuba, provided that such accounts are used only for transactions authorized pursuant to, or exempt from, this part.

Note to § 515.584(a): This section does not authorize the establishment and maintenance of accounts in the United States or with a person subject to U.S. jurisdiction by, on behalf of, or for the benefit of, Cuba or a Cuban national.

(b) Testing arrangements. Depository institutions are authorized to set up testing arrangements and exchange authenticator keys with any financial institution that is a national of Cuba for transactions authorized pursuant to, or exempt from, this part.

(c) Credit and debit cards. All transactions incident to the processing and payment of credit and debit cards involving travel-related and other transactions consistent with § 515.560 are authorized.

(d) Wire transfers. Any depository institution, as defined in § 515.333, that is a person subject to U.S. jurisdiction is authorized to:

(1) Reject funds transfers originating and terminating outside the United States where neither the originator nor the beneficiary is a person subject to U.S. jurisdiction and provided that a prohibited official of the Government of Cuba, as defined in § 515.337 of this part, or a prohibited member of the Cuban Communist Party, as defined in § 515.338 of this part, does not have an interest in the transfer; and

(2) Provided that neither the originator nor the beneficiary is a person subject to U.S. jurisdiction, process funds transfers originating and terminating outside the United States relating to transactions that would be authorized pursuant to this part if the originator or beneficiary were a person subject to U.S. jurisdiction.

36. Add § 515.585 to read as follows:

§ 515.585 Certain transactions by U.S.-owned or -controlled firms in third countries with certain Cuban nationals.

Any U.S.-owned or -controlled partnership, association, corporation, or other organization in a third country is authorized to provide goods and services to a Cuban national who is an individual located outside of Cuba, provided that the transaction does not involve a commercial exportation, directly or indirectly, of goods or services to or from Cuba.

Note 1 to § 515.585: This section does not authorize U.S.-owned or -controlled firms in third countries to export to Cuba commodities produced in the authorized trade territory. See § 515.559.

Note 2 to § 515.585: This section does not authorize U.S.-owned or -controlled firms in third countries to reexport to Cuba U.S.-origin items. See § 515.533.

Note 3 to § 515.585: This section does not authorize any transaction prohibited by § 515.204, including the purchase or sale of Cuban-origin goods.

Note 4 to § 515.585: The export or reexport to Cuba of items subject to the Export Administration Regulations (15 CFR part 730 et seq.) requires separate authorization from the Department of Commerce.

37. Add § 515.586 to read as follows:

§ 515.586 Cuban official missions in the United States.

(a) The provision of goods or services in the United States to the official missions of the Government of Cuba to the United States and to international organizations in the United States and payment for such goods or services are authorized, provided that:

(1) The goods or services are for the conduct of the official business of the missions, or for personal use of the employees, or persons who share a common dwelling as a family member of such an employee, of the missions, and are not for resale;

(2) The transaction does not involve the purchase, sale, financing, or refinancing of real property; and

(3) The transaction is not otherwise prohibited by law.

(b) The provision of goods or services in the United States to the employees, or persons who share a common dwelling as a family member of such an employee, of the official missions of the Government of Cuba to the United States and to international organizations in the United States and payment for such goods or services are authorized, provided that:

(1) The goods or services are for personal use of the employees, or persons who share a common dwelling as a family member of such an employee, of the missions, and are not for resale; and

(2) The transaction is not otherwise prohibited by law.

(c) Depository institutions, as defined in § 515.333, are authorized to operate accounts for, or extend credit to, the official missions of the Government of Cuba to the United States, and the official missions of the Government of Cuba to international organizations in the United States, and employees thereof, subject to the limitations in paragraphs (a) and (b) of this section and provided that any depository institution making use of the authorization in this section must submit a report to the Department of the Treasury, Office of Foreign Assets Control, Washington, DC 20220, no later than 30 days following the establishment of the account. Such report shall include the name and address of the depository institution, the name of the account holder, and the account number.

Dated: January 13, 2015.
John E. Smith,
Acting Director, Office of Foreign Assets Control.
Approved: January 13, 2015.
David S. Cohen,
Under Secretary, Office of Terrorism and Financial Intelligence, Department of the Treasury.

[FR Doc. 2015-00632 Filed 1-15-15; 8:45 am]

BILLING CODE 4810-AL-P